DEPARTMENT OF THE INTERIOR

National Park Service

[2253-665]

Notice of Intent To Repatriate Cultural Items: U.S. Fish and Wildlife Service, Office of Law Enforcement, Lakewood, CO

AGENCY: National Park Service, Interior.

ACTION: Notice.

SUMMARY: The U.S. Fish and Wildlife Service, Office of Law Enforcement, in consultation with the appropriate Indian tribe, has determined that the cultural items listed below meet the definition of sacred objects and object of cultural patrimony and repatriation to the Indian tribe stated below may occur if no additional claimants come forward. Representatives of any Indian tribe that believes itself to be culturally affiliated with the cultural items may contact the U.S. Fish and Wildlife Service, Office of Law Enforcement.

DATES: Representatives of any Indian tribe that believes it has a cultural affiliation with the cultural items should contact the U.S. Fish and Wildlife Service, Office of Law Enforcement, at the address below by April 6, 2012.

ADDRESSES: Special Agent in Charge, U.S. Fish and Wildlife Service, Office of Law Enforcement, 134 Union Blvd., Room 550, Lakewood, CO 80228, telephone (303) 236-7540.

SUPPLEMENTARY INFORMATION: Notice is here given in accordance with the Native American Graves Protection and Repatriation Act (NAGPRA), 25 U.S.C. 3005, of the intent to repatriate 27 cultural items in the possession of the U.S. Fish and Wildlife Service, Office of Law Enforcement, that meet the definition of sacred objects and object of cultural patrimony under 25 U.S.C. 3001.

This notice is published as part of the National Park Service's administrative responsibilities under NAGPRA, 25 U.S.C. 3003(d)(3). The determinations in this notice are the sole responsibility of the U.S. Fish and Wildlife Service, Office of Law Enforcement. The National Park Service is not responsible for the determinations in this notice.

History and Description of the Cultural Items

These items came into the possession and control of the U.S. Fish and Wildlife Service (USFWS), Office of Law Enforcement, pursuant to a criminal investigation. Items 1-60 were forfeited to the U.S. Government by the U.S. Customs Service in separate forfeiture actions in January, February and March 2001. These items were transferred to the USFWS on August 21, 2001. Items 61-69 were abandoned to the USFWS on November 15, 2001. All objects listed below were either seized or abandoned from various private collectors or a public museum pursuant to Federal criminal investigations, which are now complete.

USFWS contracted with expert consultants to review the collection and consulted with 11 tribes having interest or affiliation in the objects. Three tribes filed claims requesting repatriation of objects from the collection. Upon review, the USFWS determined that 27 of the objects are subject to repatriation to the Blackfeet Tribe of the Blackfeet Indian Reservation of Montana. The 27 sacred objects are Item 1: All Brave-Dog society rattle; Item 2: bird bone whistle; Item 3: man's straight-up headdress; Item 4: man's headdress; Items 7 and 12: eagle bone whistle; Item 15: dance club; Item 16: dance staff; Items 23-25: replica Natoas sundance headdress; Item 27: eagle tail feathers; Item 34: medicine pipe owner's headband and hair feathers; Item 35: replica of the Little Dog Thunder medicine pipe; Item 36: replica of the secondary pipe from a medicine pipe bundle; Item 37: eagle feather headdress; Item 38: rawhide cylindrical case with replica bear knife medicine bundle; Items 44 and 47: war bonnet; Item 48: straight-up bonnet; Items 49 and 53: Brave Dog Society rattles; Item 55: weasel tail shirt; Item 56: buckskin leggings; Item 64: eagle feather headdress; Item 65: medicine bundle; and Item 69: leather tipi bag and contents. Item 16 (dance staff) is both a sacred object and an object of cultural patrimony.

Determinations Made by the U.S. Fish and Wildlife Service, Office of Law Enforcement

Based on the above-mentioned information, officials of the USFWS have determined that:

• Pursuant to 25 U.S.C. 3001(3)(C), 26 of the cultural items described above are specific ceremonial objects needed by traditional Native American religious leaders for the practice of traditional Native American religions by their present-day adherents.

• Pursuant to 25 U.S.C. 3001(3)(C) and 25 U.S.C. 3001(3)(D), one of the cultural items described above is a specific ceremonial object needed by traditional Native American religious leaders for the practice of traditional Native American religions by their present-day adherents, and has ongoing historical, traditional, or cultural importance central to the Native American group or culture itself, rather than property owned by an individual.

• Pursuant to 25 U.S.C. 3001(2), there is a relationship of shared group identity that can be reasonably traced between the 27 cultural objects and the Blackfeet Tribe of the Blackfeet Indian Reservation of Montana.

Additional Requestors and Disposition

Representatives of any other Indian tribe that believes itself to be culturally affiliated with these sacred objects and object of cultural patrimony should contact the Special Agent in Charge, U.S. Fish and Wildlife Service, Office of Law Enforcement, 134 Union Blvd., Room 550, Lakewood, CO 80228; telephone (303) 236-7540, April 6, 2012. Repatriation of the sacred objects and object of cultural patrimony to the Blackfeet Tribe of the Blackfeet Indian Reservation, Montana may proceed after that date if no additional claimants come forward.

The U.S. Fish and Wildlife Service, Office of Law Enforcement, Lakewood, CO, is responsible for notifying the Blackfeet Tribe of the Blackfeet Indian Reservation, Montana that this notice has been published.

Dated: March 2, 2012.
Sherry Hutt,
Manager, National NAGPRA Program.

[FR Doc. 2012-5578 Filed 3-6-12; 8:45 am]

BILLING CODE 4312-50-P